DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance 4/15/2011 Through 4/27/2011
Firm name | Address | Date accepted for investigation | Products
ABC School Equipment | 1020 Railroad St., Corona, CA 92282 | 21-Apr-11 | The firm manufactures marker boards, chalkboards and tack boards for educational institutions.
Aerodyne Industries, LLC. dba Excaliber Precision Machining | 8737 N. 77th Dr., Peoria, AZ 85345 | 20-Apr-11 | The firm provides for precision machining production of aerospace and defense industry production parts.
Autoswage Products, Inc. | 726 River Road, Shelton, CT 06484 | 21-Apr-11 | The firm manufactures pin shaped metal parts that are formed into shapes to meet specific customer requirements.
Consolidated Pine, Inc. | 1951 NW Lamonta Road, Prineville, OR 97754 | 19-Apr-11 | The firm manufactures wood products and pine moldings.
Counterpart, Inc | 214 32nd Avenue South, Brookings, SD 57006 | 21-Apr-11 | The firm manufactures industrial and commercial metal machinery parts and assemblies, specializing in custom machinery.
Herrick & White, Ltd. | 3 Flat Street, Cumberland, RI 02864 | 21-Apr-11 | The firm manufactures architectural woodwork such as cabinets, moldings, doors, windows and ornamental furniture. They also manufacture freestanding and perimeter store fixtures.
Howard Tool Company, Inc | 547 Odlin Road, Bangor, ME 04401 | 21-Apr-11 | The firm manufactures dies, tools, jigs, and fixtures.
Ultra Electronics Ocean Systems, Inc | 115 Bay State Drive, Braintree, MA 02184 | 26-Apr-11 | The firm manufactures acoustic countermeasures—electro-acoustic products used to decoy/confuse acoustic homing torpedoes, sonar transducers.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: April 26, 2011.
Bryan Borlik,
Director.

[FR Doc. 2011-10849 Filed 5-3-11; 8:45 am]

BILLING CODE 3510-WH-P